Proclamation 10088 of September 30, 2020

National Domestic Violence Awareness Month, 2020

By the President of the United States of America

A Proclamation

All Americans deserve a life free from the threat of physical and psychological harm. Tragically, far too many Americans are deprived of this right by perpetrators of domestic violence. During National Domestic Violence Awareness Month, we offer our support to the victims and survivors of this unacceptable atrocity and reaffirm our commitment to bringing justice to their abusers and offering hope to those who currently reside in volatile and unsafe living conditions.

Domestic violence is an evil that threatens the social fabric of our Nation. It is a widespread attack on the most sacred and intimate of institutions—the American family. Domestic violence tears families apart, with devastating consequences that can last for generations. Tragically, more than 10 million Americans suffer at the hands of loved ones each year, and women are twice as likely to be targets of this heinous crime as men.

My Administration will always stand with and protect victims of domestic violence. My Fiscal Year 2020 budget allocated nearly $500 million for the Department of Justice (DOJ) to support respectful, nonviolent relationships and reduce domestic violence. In fiscal years 2018, 2019, and 2020, we also provided the DOJ Office for Victims of Crime with $10 billion in funding so it can provide comprehensive and effective services, including to victims of domestic violence. Thousands of domestic violence survivors have received critical assistance because of this funding. My Administration has also provided funding for domestic violence shelters throughout the country so that people affected by this crime have a safe place to go to escape from their abuser. While our work will not be done until we end domestic violence, these initiatives are helping victims hold their abusers accountable and recover from the trauma inflicted upon them.

As our Nation continues to combat the coronavirus pandemic, we are forced to face the consequences of increased domestic abuse. We must protect and support those who have found themselves locked down with an abuser. Now more than ever, we must do our part to provide domestic violence survivors with the tools and resources they need to escape their abuse and secure justice for the harm inflicted upon them. The pandemic has also underscored the need for well-trained law enforcement professionals, who often respond to domestic violence calls and provide assistance in situations that very often involve physical injury, psychological trauma, or even death. As we recommit to ending this unconscionable cycle of abuse, we also commend the heroes who courageously answer the call for help time and time again.

There is no room for violence of any kind in our country. This month, we recognize that the victims and survivors of the unspeakable ordeal of domestic violence deserve our compassion, respect, and support. Let us marshal every tool at our disposal to continue the national, sustained, and coordinated campaign to end domestic violence forever.

NOW, THEREFORE, I, DONALD J. TRUMP, President of the United States of America, by virtue of the authority vested in me by the Constitution and the laws of the United States, do hereby proclaim October 2020 as National Domestic Violence Awareness Month. I call upon the people of the United States to observe this month with appropriate programs, ceremonies, and activities.

IN WITNESS WHEREOF, I have hereunto set my hand this thirtieth day of September, in the year of our Lord two thousand twenty, and of the Independence of the United States of America the two hundred and forty-fifth.

[FR Doc. 2020-22194

Filed 10-5-20; 8:45 am]

Billing code 3295-F1-P